Proclamation 7843 of November 4, 2004

National Hospice Month, 2004

By the President of the United States of America

A Proclamation

Hospice programs are a vital part of our Nation's health care system. They provide comfort, peace, and dignity for individuals in the final stage of life and their families. During National Hospice Month, we recognize the dedicated professionals and volunteers who provide hospice care, and we emphasize the importance of respecting and honoring life in all of its seasons.

For many terminally ill patients, hospice care is a compassionate alternative to traditional care at a hospital or nursing home. Hospice physicians, nurses, counselors, and volunteers focus on making patients as comfortable as possible, while allowing patients to remain at home and close to their families. With comprehensive assistance, these caregivers help control pain and other symptoms and provide emotional and spiritual support to both patient and family. In 2002, according to the National Hospice and Palliative Care Organization, an estimated 885,000 individuals were admitted to one of the over 3,000 hospice programs in the United States.

My Administration has acted to strengthen and modernize Medicare for our seniors, and we remain committed to providing a health care system that meets the needs of every patient. Hospice services are covered by Medicare, and many States offer hospice care under their Medicaid programs. The Medicare legislation that I signed into law last December provides that Medicare will, for the first time, cover hospice consultation services so that terminally ill patients and their families will better understand end-of-life issues and care options. The legislation also makes the program more flexible and responsive to the needs of patients, allows patients to designate a nurse practitioner to coordinate their hospice care, and directs the Secretary of Health and Human Services to explore ways to make hospice care more widely available to beneficiaries who live in rural areas.

Americans believe in the worth and dignity of every person, and we are promoting a culture of life in our Nation. By caring for life at every stage, we can create a more compassionate and merciful world.

NOW, THEREFORE, I, GEORGE W. BUSH, President of the United States of America, by virtue of the authority vested in me by the Constitution and laws of the United States, do hereby proclaim November 2004 as National Hospice Month. I encourage all our citizens to observe this month with appropriate programs and activities. I also ask Americans to recognize our health care professionals and volunteers for their contributions to helping those facing terminal illness receive quality care.

IN WITNESS WHEREOF, I have hereunto set my hand this fourth day of November, in the year of our Lord two thousand four, and of the Independence of the United States of America the two hundred and twenty-ninth.

B

[FR Doc. 04-25168

Filed 11-8-04; 9:39 am]

Billing code 3195-01-P